DEPARTMENT OF COMMERCE

National Oceanic and Atmospheric Administration

RIN 0648-XE158

Fisheries of the South Atlantic, Gulf of Mexico, and Caribbean; Southeast Data, Assessment, and Review (SEDAR); Public Meeting

AGENCY: National Marine Fisheries Service (NMFS), National Oceanic and Atmospheric Administration (NOAA), Commerce.

ACTION: Notice of public meeting of the SEDAR Steering Committee.

SUMMARY: The SEDAR Steering Committee will meet to discuss the SEDAR process and assessment schedule. See SUPPLEMENTARY INFORMATION.

DATES: The SEDAR Steering Committee will meet from 1 p.m. on Monday, September 28, until 4 p.m. on Tuesday, September 29, 2015.

ADDRESSES: The Steering Committee meeting will be held at the Crowne Plaza, 4381 Tanger Outlet Boulevard, North Charleston, SC 29418; telephone: (843) 744-4422.

SEDAR address: South Atlantic Fishery Management Council, 4055 Faber Place Drive, Suite 201, N. Charleston, SC 29405; www.sedarweb.org.

FOR FURTHER INFORMATION CONTACT: John Carmichael, SEDAR Program Manager, 4055 Faber Place Drive, Suite 201, North Charleston, SC 29405; phone (843) 571-4366 or toll free (866) SAFMC-10; fax: (843) 769-4520; email: john.carmichael@safmc.net.

SUPPLEMENTARY INFORMATION: The items of discussion are as follows:

SEDAR Steering Committee Agenda, Monday, September 28, 2015, 1 p.m.-5 p.m. and Tuesday, September 29, 2015, 8:30 a.m.-4 p.m.

1. Review progress of ongoing assessment projects.

2. Receive a report on the Data Best Practices Workshop.

3. Review Southeast Fishery Science Center progress on recommendations from the Data and Assessment Program Reviews.

4. Receive a report on the NOAA Fisheries Stock Assessment Prioritization Plan.

5. Approve SEDAR Operating Procedures changes.

6. Address the SEDAR assessment schedule: identify assessment capability, determine 2017 priorities and identify projects for 2018-19.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: September 8, 2015.
Tracey L. Thompson,
Acting Deputy Director, Office of Sustainable Fisheries, National Marine Fisheries Service.

[FR Doc. 2015-22935 Filed 9-10-15; 8:45 am]

BILLING CODE 3510-22-P